DEPARTMENT OF THE INTERIOR

Bureau of Indian Affairs

[212A2100DD/AAKC001030/A0A501010.999900253G]

Bureau of Indian Education School Reopening Plans

AGENCY: Bureau of Indian Affairs, Interior.

ACTION: Notice of public meetings.

SUMMARY: The Bureau of Indian Education (BIE) is seeking stakeholder input on its plans to rely upon the latest U.S. Department of Education (ED) and the Centers for Disease Control and Prevention (CDC) guidance regarding reopening its K-12 schools, residential facilities, and post-secondary schools for safe delivery of in-person and hybrid instruction and determine if BIE schools should include additional guidelines.

DATES: Public meetings addressing K-12 and residential facilities will be held from 4 p.m. to 5 p.m. Eastern Time (ET) on May 10, 2021. Public meetings addressing post-secondary institutions will be held 4 p.m. to 5 p.m. ET on May 11, 2021. Written comments must be received by 11:59 p.m. ET, May 14, 2021.

ADDRESSES: Please register in advance for each session using the links listed in the SUPPLEMENTARY INFORMATION section of this notice. Written comments may be emailed to comments@bia.gov.

FOR FURTHER INFORMATION CONTACT: Dr. Tamarah Pfeiffer, Chief Academic Officer, Bureau of Indian Education; telephone: (505) 563-3020, fax: (505) 563-3043 or email Tamarah.Pfeiffer@bie.edu.

SUPPLEMENTARY INFORMATION: BIE is working on reopening schools for safe delivery of in-person and hybrid instruction based on the latest guidance from the U.S. Department of Education and the Centers for Disease Control and invites stakeholders to provide input regarding additional needs and resources to ensure the safety and wellbeing of students at BIE schools. Among the items BIE is specifically considering as it undertakes reopening schools are:

• What is needed to ensure student safety when using commercial transportation services before students travel to a residential facility and when they travel home?

• Would you recommend that students be vaccinated before arriving on campus if vaccinations are available?

• What are your recommendations to serve students that plan to attend residential facilities and post-secondary institutions from communities with high rates of COVID-19?

• Are there any recommendations for grades K-12 and residential facilities not already addressed by ED and CDC reopening guidance that requires additional clarification or guidance by BIE?

BIE-operated schools include three categories, each of which BIE will plan for separately:

1. Schools serving grades K-12;

2. BIE residential facilities; and

3. Post-secondary institutions (specifically, Haskell Indian Nations University and Southwest Indian Polytechnic Institute (SIPI)).

The intended purpose of this stakeholder engagement is to ensure that BIE is meeting the needs of its students, schools, and Tribal communities during the COVID-19 Pandemic recovery. BIE has invited Tribes to Tribal consultation sessions by letter.

Public webinar sessions are scheduled for:

K-12 and Residential Facilities

May 10, 2021

4 p.m.—5 p.m. Eastern Time (ET)

Please register in advance for this meeting at: https://www.zoomgov.com/meeting/register/vJItfuqorzguH3fGaQXG26Nbu4mFiy4IJ_Q

Post-Secondary Institutions

May 11, 2021

4 p.m.-5 p.m. Eastern Time (ET)

Please register in advance for this meeting at: https://www.zoomgov.com/meeting/register/vJItcOCtpzgvHT5ZmlDobA8nzJlx9jJgEhw

Once registered, you will receive a confirmation email containing information about joining the session. Each day of public sessions will be preceded by a Tribal consultation session from 3 p.m.-4 p.m. ET. Tribes have been invited by letter to the Tribal consultation sessions.

Bryan Newland,
Principal Deputy Assistant Secretary—Indian Affairs.

[FR Doc. 2021-07460 Filed 4-16-21; 8:45 am]

BILLING CODE 4337-15-P